INTERNATIONAL TRADE COMMISSION

[Inv. No. 337-TA-527]

In the Matter of Certain Digital Image Storage and Retrieval Devices; Notice of Commission Decision Not To Review an Initial Determination Terminating the Investigation

AGENCY: U.S. International Trade Commission.

ACTION: Notice.

SUMMARY: Notice is hereby given that the U.S. International Trade Commission has determined not to review the presiding administrative law judge's (“ALJ's”) initial determination (“ID”) terminating the above-captioned investigation in its entirety based upon withdrawal of the complaint.

FOR FURTHER INFORMATION CONTACT: Clara Kuehn, Esq., Office of the General Counsel, U.S. International Trade Commission, 500 E Street, SW., Washington, DC 20436, telephone (202) 205-3012. Copies of the ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on November 29, 2004, based on a complaint filed by Ampex Corporation of Redwood City, CA (“Ampex”). 69 FR 69390 (2004). The notice of investigation named three respondents: Eastman Kodak Company of Rochester, NY; Chinon Industries, Inc. of Chino City, Nagano, Japan; and Altek Corporation of Hsinchu, Taiwan (collectively, “respondents”). Id. The complaint, as supplemented, alleges violations of section 337 of the Tariff Act of 1930 in the importation into the United States, the sale for importation, and the sale within the United States after importation of certain digital image storage and retrieval devices by reason of infringement of claims 7, 8, 10-14, and 15 of U.S. Patent No. 4,821,121. Id.

On July 29, 2005, complainant Ampex moved to withdraw its complaint and to terminate the investigation as to all named respondents. On August 1, 2005, the Commission investigative attorney filed a response in support of the motion. On August 4, 2005, respondents Eastman Kodak Company and Altek Corporation filed a response stating that they did not oppose the motion. On August 5, 2005, the presiding ALJ issued an ID (Order No. 32) granting the motion. No petitions for review of the ID were filed.

The authority for the Commission's determination is contained in section 337 of the Tariff Act of 1930, as amended (19 U.S.C. 1337), and in section 210.42 of the Commission's Rules of Practice and Procedure (19 CFR 210.42).

By order of the Commission.
Issued: August 23, 2005.
Marilyn R. Abbott,
Secretary to the Commission.

[FR Doc. 05-17052 Filed 8-26-05; 8:45 am]

BILLING CODE 7020-02-P